DEPARTMENT OF COMMERCE

International Trade Administration

[A-122-869, A-570-150, A-428-851, A-421-816, A-580-915, A-583-870, A-489-848, A-412-827]

Tin Mill Products From Canada, the People's Republic of China, Germany, the Netherlands, the Republic of Korea, Taiwan, the Republic of Turkey, and the United Kingdom: Postponement of Preliminary Determinations in the Less-Than-Fair-Value Investigations

AGENCY: Enforcement and Compliance, International Trade Administration, Department of Commerce.

DATES: Applicable May 31, 2023.

FOR FURTHER INFORMATION CONTACT: Yang Jin Chun (Canada), Emily Halle (the People's Republic of China (China)), George McMahon (Germany), Brittany Bauer (the Netherlands), Fred Baker (the Republic of Korea (Korea)), Jacob Saude (Taiwan), Alice Maldonado (the Republic of Turkey (Turkey)), and Charles DeFilippo (the United Kingdom), AD/CVD Operations, Offices II, V, VI, and VII, Enforcement and Compliance, International Trade Administration, U.S. Department of Commerce, 1401 Constitution Avenue NW, Washington, DC 20230; telephone: (202) 482-5760, (202) 482-0176, (202) 482-1167, (202) 482-3860, (202) 482-2924, (202) 482-0981, (202) 482-4682, and (202) 482-3979, respectively.

SUPPLEMENTARY INFORMATION:

Background

On February 7, 2023, the U.S. Department of Commerce (Commerce) initiated less-than-fair-value (LTFV) investigations of imports of tin mill products from Canada, China, Germany, the Netherlands, Korea, Taiwan, Turkey, and the United Kingdom.¹ Currently, the preliminary determinations are due no later than June 27, 2023.

¹ See Tin Mill Products from Canada, the People's Republic of China, Germany, the Netherlands, the Republic of Korea, Taiwan, the Republic of Turkey, and the United Kingdom: Initiation of Less-Than-Fair-Value Investigations, 88 FR 9481 (February 14, 2023).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 18, 2023, the petitioners ² submitted a timely request that Commerce postpone the preliminary determinations in the LTFV investigations of imports of tin mill products from Canada, China, Germany, the Netherlands, Korea, Taiwan, Turkey, and the United Kingdom. The petitioners stated that “{p}ostponement is warranted so that Commerce can evaluate fully the initial questionnaire responses submitted by the mandatory respondents and solicit supplemental information as necessary,” and the petitioners “seek postponement of all the antidumping investigations in order to keep them on the same schedule and avoid the need to split the cases at the International Trade Commission.” ³

² The petitioners are Cleveland-Cliffs Inc. and the United Steel, Paper and Forestry, Rubber, Manufacturing, Energy, Allied Industrial and Service Workers International Union.

³ See Petitioners' Letter, “Request for Postponement of the Preliminary Determinations,” dated May 18, 2023.

For the reasons stated above and because there are no compelling reasons to deny the request, in accordance with section 733(c)(1)(A) of the Act and 19 CFR 351.205(e), Commerce is postponing the deadline for the preliminary determinations by 50 days (i.e., to 190 days after the date on which these investigations were initiated). As a result, Commerce will issue its preliminary determinations in the above-referenced investigations no later than August 16, 2023. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: May 24, 2023.
Abdelali Elouaradia,
Deputy Assistant Secretary for Enforcement and Compliance.

[FR Doc. 2023-11475 Filed 5-30-23; 8:45 am]

BILLING CODE 3510-DS-P